ENVIRONMENTAL PROTECTION AGENCY

[FRL-9986-07-Region 9]

Casmalia Resources Superfund Site; Notice of Proposed CERCLA Administrative De Minimis Settlement

AGENCY: Environmental Protection Agency.

ACTION: Notice; request for public comment.

SUMMARY: In accordance with the Comprehensive Environmental Response, Compensation, and Liability Act, as amended (CERCLA) and the Resource Conservation and Recovery Act (RCRA), the Environmental Protection Agency (EPA) is hereby providing notice of a proposed administrative de minimis settlement concerning the Casmalia Resources Superfund Site in Santa Barbara County, California (the Casmalia Resources Site). CERCLA provides EPA with the authority to enter into administrative de minimis settlements. This settlement is intended to resolve the liabilities of the 104 settling parties identified below for the Casmalia Resources Site. These parties have also elected to resolve their liability for response costs and potential natural resource damage claims by the United States Fish and Wildlife Service (USFWS) and the National Oceanic and Atmospheric Administration (NOAA). These 104 parties sent 9,696,519 lbs. of waste to the Casmalia Resources Site, which represents 0.07% of the total Site waste of 5.6 billion pounds. This settlement requires these parties to pay $885,397 to EPA.

DATES: EPA will receive written comments relating to the settlement until December 5, 2018. EPA will consider all comments it receives during this period, and may modify or withdraw consent to the settlement if any comments disclose facts or considerations indicating that the settlement is inappropriate, improper, or inadequate.

Public meeting: In accordance with section 7003(d) of RCRA, 42 U.S.C. 6973(d), commenters may request an opportunity for a public meeting in the affected area. The deadline for requesting a public meeting is November 19, 2018. Requests for a public meeting may be made by contacting Russell Mechem by email at mechem.russell@epa.gov. If a public meeting is requested, information about the date and time of the meeting will be published in the local newspaper, The Santa Maria Times, and will be sent to persons on the EPA's Casmalia Resources Site mailing list. To be added to the mailing list, please contact: Alejandro Diaz at (415) 972-3242 or by email at diaz.alejandro@epa.gov.

ADDRESSES: Written comments should be addressed to Casmalia Case Team, U.S. Environmental Protection Agency Region IX, 75 Hawthorne Street (mail code SFD-7-1), San Francisco, California 94105-3901, or may be sent by email to mechem.russell@epa.gov.

FOR FURTHER INFORMATION CONTACT: A copy of the settlement document and additional information about the Casmalia Resources Site and the proposed settlement may be obtained on the EPA-maintained Casmalia Resources Site website at: http://www.epa.gov/region09/casmalia or by calling Russell Mechem at (415) 972-3192.

SUPPLEMENTARY INFORMATION: Section 122(g) of CERCLA gives EPA authority to enter into administrative de minimis settlements. Section 122(i) of CERCLA and section 7003(d) of RCRA require that EPA publish notice of certain proposed settlements. This settlement is intended to resolve the liabilities of the settling parties under sections 106 and 107 of CERCLA and section 7003 of RCRA for the Casmalia Resources Site.

The parties that have elected to settle their liability with EPA at this time are as follows: A/C Industrial Cleaning Co.; Adams Campbell Co.; Aerosol Services Co.; Afflu, Ltd dba Dalee Car Bath; AG RX; Alcorn Fence Co.; ALLFAST Fastening Systems; Armorlite Inc.; Arnold Engineering; Arvinyl; ASCO Sintering Co.; Audax Group; Axelson, Inc., acquired by Wheatley Corp/Dresser Industries and later merged into Halliburton Energy Services, Inc.; Bard Parker; BC Laboratories, Inc.; Berney Construction; Bien Nacido Vineyards; Briggman Disposal; Burke Chemical; C.P. National; CAE, Inc.; California Avi-Tron; Carl's Jr.; Centre Properties; Channel Disposal Co.; Cigna Health Plans of CA; Circuitry Engineering; City of Hidden Hills; Coast Welding Supply, Inc.; Commercial Coil Spring Company; Contract Applications, Inc.; County of San Luis Obispo; Crystallite Co.; Darnell Corp.; Data Card; Data Documents Systems; Dela-Tek, Incorporated; Denny's Restaurants; D-Whit, Inc. (fka Whitney Machinery, Inc.); Economics Lab, Inc.; EDCO Disposal; Ericsson; Foster & Kleiser; Fruit Growers Supply; Futura Metal Technology; Gannett; Gannon Manufacturing Company; Haley Brothers; Harsco Corporation, through its April 11, 1966 Acquisition of Certain Assets of Borden Metal Products Henry Company, Resin Technology Division; Honetreat Corporation; IAMA, Inc.; IMAAC Corporation; Inca Products Company; J. Colavin & Sons; Jack in the Box; Jostens, Inc.; K&N Engineering, Inc.; K/J Plating; Kerr Dental; Kerr Glass Mfg. Corp.; Keystone Products, Inc.; Keystone RV Company, successor by merger to Dutchmen Manufacturing, Inc., sucessor to Komfort Corporation; Kilovac Corp.; Magnet Sales & Manufacturing, Inc.; Manufacturers Life Insurance; Marriott International, Inc.; Martin Decker Company; Merck & Co., Inc.; Metelics; Nanofilm; Norris Plumbing Fixtures; Pacific Resins & Chemical; Pacific Ship Repair; PCB Engineering; Penhall Company; Petroleum Contractors, Inc.; Precision Anodizing & Plating, Inc.; Precision Autobody; QT Optoelectronics; Rain Bird Sprinkler Mfg. Corp.; S I I Willis Oil Tool Company; Schuster Flexible Packaging/Schuster Cellophane; Sea-Land Service, Inc.; Shepherd Machinery; Silicon Valley Group; Smart Supply Company; Soco West, Inc.; Southern California Carton; Stanley Bostich; Steve Reynolds, Prado Road Service; Sun Eight Company, Inc.; Sundance Spas, Inc.; Super Seal & Stripe; Superior Gear; Thermo Analytical, Inc./EAL; Thornton Coast Ring Corp.; Tryad Service Corporation; Tulip Corporation; Universal Molding Company; US Foods;Ventura Rubbish; Vorelco, Inc.; Western Specialty Coatings Co.

Dated: September 27, 2018.
Enrique Manzanilla,
Director, Superfund Division, U.S. EPA Region IX.

[FR Doc. 2018-24201 Filed 11-2-18; 8:45 am]

BILLING CODE 6560-50-P